NATIONAL SCIENCE FOUNDATION

Public Availability of the National Science Foundation FY 2014 Service Contract Inventory and Associated Documents

AGENCY: National Science Foundation.

ACTION: Notice of Public Availability of FY 2014 Service Contract Inventories and associated documents.

SUMMARY: In accordance with Section 743 of Division C of the Consolidated Appropriations Act of 2010 (Pub. L. 111-117), the National Science Foundation is publishing this notice to advise the public of the availability of (1) the FY 2014 Service Contract Inventory Detail, (2) the FY 2014 Service Contract Inventory Summary, (3) the FY 2013 Service Contract Inventory Analysis Report, (4) the FY 2014 Service Contract Inventory Supplement Report and, (5) the FY 2014 Plan for Analyzing the Service Contract Inventory. This inventory provides information on service contract actions over $25,000 that were made in FY 2014. The information is organized by function to show how contracted resources are distributed throughout the agency. The inventory has been developed in accordance with guidance issued on November 5, 2010, and December 19, 2011, by the Office of Management and Budget's Office of Federal Procurement Policy (OFPP). OFPP's guidance is available at http://www.whitehouse.gov/sites/default/files/omb/procurement/memo/service-contract-inventories-guidance-11052010.pdf and http://www.whitehouse.gov/sites/default/files/omb/procurement/memo/service-contract-inventory-guidance.pdf. The National Science Foundation has posted its (1) FY 2014 Service Contract Inventory Detail, (2) FY 2014 Service Contract Inventory Summary, (3) FY 2013 Service Contract Inventory Analysis Report, (4) FY 2014 Service Contract Inventory Supplement Report and (5) FY 2014 Plan for Analyzing the Service Contract Inventory on the National Science Foundation homepage at the following links:

http://www.nsf.gov/publications/pub_summ.jsp?ods_key=nsf15067 (Service Contract Inventory Detail for FY 2014)

http://www.nsf.gov/publications/pub_summ.jsp?ods_key=nsf15068 (Service Contract Inventory Summary for FY 2014)

http://www.nsf.gov/publications/pub_summ.jsp?ods_key=nsf15069 (Service Contract Inventory Analysis Report for FY 2013)

http://www.nsf.gov/publications/pub_summ.jsp?ods_key=nsf15071 (Service Contract Inventory Supplement Report for FY2014)

http://www.nsf.gov/publications/pub_summ.jsp?ods_key=nsf15070 (Plan for Analyzing the Service Contract Inventory for FY 2014)

FOR FURTHER INFORMATION CONTACT: Questions regarding the service contract inventory should be directed to Richard Pihl in the BFA/DACS at 703-292-7395 or rpihl@nsf.gov.

Dated: April 23, 2015.
Suzanne Plimpton,
Reports Clearance Officer, National Science Foundation.

[FR Doc. 2015-09807 Filed 4-27-15; 8:45 am]

BILLING CODE 7555-01-P